Proclamation 10198 of April 30, 2021

Loyalty Day, 2021

By the President of the United States of America

A Proclamation

On Loyalty Day, we celebrate our allegiance to the project of this great Nation and the democratic ideals woven into the fabric of our Constitution. As Americans, we do not command loyalty, but seek to earn it through our actions—including by living up to the principles enshrined in our Constitution and respecting the will of the people as reflected in the democratic process. Drawn together by the promise of equality, freedom, and justice, we are a Nation of shared ideals and strong, resilient people. Here in America, loyalty does not mean fealty to any one leader or political party, nor does it mean unthinking praise or willful ignorance of our shortcomings—it means loyalty to our common ideals, and to one another. It means standing united as one people, even as we cherish our differences and respect dissent.

Our country is a diverse tapestry of many cultures, heritages, religions, and languages, brought together around the values and ideals we all share as Americans. Together, we celebrate our differences and draw strength from our common commitment to perfecting our Union. No matter what challenges come our way, our Nation holds strong together—bound by our Constitution and the rule of law, uplifted by individual liberties and promises of justice we have worked hard in each generation to secure and expand, and consecrated by those who have sacrificed to preserve, defend, and care for our Nation.

We see loyalty in the members of our Armed Forces, who selflessly serve in harm's way; in their families, who, in the timeless words of the poet John Milton, “also serve who only stand and wait;” in our educators, who dedicate their lives to nurturing young minds; in our first responders, who put their lives on the line to save others; in all those who have the courage to call out our Nation's imperfections when we fall short, and who continue to push our society to live up to its founding promise of freedom, justice, and equality for all. May 1 is also International Workers' Day, and we honor the workers whose service and sacrifice has helped turn the tide against the COVID-19 pandemic. On this day, we show our gratitude to our essential workers—and to all of the workers who have organized and fought to improve our Nation and create a fairer and more just society for all.

To acknowledge the American ethos of patriotism and the sacrifices so many of our fellow citizens have made, the Congress, by Public Law 85-529, as amended, has designated the 1st day of May each year as Loyalty Day. On this day, let us reaffirm our commitment to the values that bind us together and honor all those who have defended our freedom.

NOW, THEREFORE, I, JOSEPH R. BIDEN JR., President of the United States of America, do hereby proclaim May 1, 2021, as Loyalty Day. This Loyalty Day, I call upon the people of the United States to join in this national observance, display the United States flag and pledge allegiance to the Republic for which it stands.

IN WITNESS WHEREOF, I have hereunto set my hand this thirtieth day of April, in the year of our Lord two thousand twenty-one, and of the Independence of the United States of America the two hundred and forty-fifth.

[FR Doc. 2021-09595

Filed 5-4-21; 8:45 am]

Billing code 3295-F1-P